DEPARTMENT OF HEALTH AND HUMAN SERVICES

Food and Drug Administration

[Docket No. 99F-2999]

Ciba Specialty Chemicals; Withdrawal of Food Additive Petition

AGENCY: Food and Drug Administration, HHS.

ACTION: Notice.

SUMMARY: The Food and Drug Administration (FDA) is announcing the withdrawal, without prejudice to a future filing, of a food additive petition (FAP 9B4686) proposing that the food additive regulations be amended to provide for the safe use of benzenepropanoic acid, 3,5- bis(1,1-dimethylethyl)-4-hydroxy-, C7-C9-branched alkyl esters as an antioxidant and/or stabilizer for adhesives.

FOR FURTHER INFORMATION CONTACT: Mark Hepp, Center for Food Safety and Applied Nutrition (HFS-275), Food and Drug Administration, 5100 Paint Branch Pkwy., College Park, MD 20740-3858, 202-418-3098.

SUPPLEMENTARY INFORMATION: In a notice published in the Federal Register of September 7, 1999 (64 FR 48654), FDA announced that a food additive petition (FAP 9B4686) had been filed by Ciba Specialty Chemicals, 540 White Plains Rd., P.O. Box 2005, Tarrytown, NY 10591-9005. The petition proposed to amend the food additive regulations in § 178.2010 Antioxidants and/or stabilizers for polymers (21 CFR 178.2010) to provide for the safe use of benzenepropanoic acid, 3,5- bis(1,1-dimethylethyl)-4-hydroxy-, C7-C9-branched alkyl esters as an antioxidant and/or stabilizer for adhesives. Ciba Specialty Chemicals has now withdrawn the petition without prejudice to a future filing (21 CFR 171.7).

Dated: March 20, 2003.
Alan M. Rulis,
Director, Office of Food Additive Safety, Center for Food Safety and Applied Nutrition.

[FR Doc. 03-8335 Filed 4-4-03; 8:45 am]

BILLING CODE 4160-01-S